CORPORATION FOR NATIONAL AND COMMUNITY SERVICE

Agency Information Collection Activities; Submission to the Office of Management and Budget for Review and Approval; Comment Request; CNCS Grant Application; Proposed Information Collection; Comment Request

AGENCY: Corporation for National and Community Service.

ACTION: Notice.

SUMMARY: The Corporation for National and Community Service (CNCS) has submitted a public information collection request (ICR) entitled CNCS Grant Application for review and approval in accordance with the Paperwork Reduction Act of 1995, Pub. L. 104-13, (44 U.S.C. Chapter 35). Copies of this ICR, with applicable supporting documentation, may be obtained by calling the Corporation for National and Community Service, Amy Borgstrom, at 202-606-6930 or email to aborgstrom@cns.gov. Individuals who use a telecommunications device for the deaf (TTY-TDD) may call 1-800-833-3722 between 8:00 a.m. and 8:00 p.m. Eastern Time, Monday through Friday.

DATES: Comments may be submitted, identified by the title of the information collection activity, within August 21, 2017.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on July 1, 2016 at 81 FR 43192. This comment period ended August 30, 2016. No public comments were received from this Notice.

Description: The CNCS Grant Application is the information collection instrument used for grant competitions which CNCS sponsors when appropriations are available. This is a new information collection that replaces multiple application information collections used in the past. The information collection will otherwise be used in the same manner as the existing applications. CNCS also seeks to continue using the current applications until the revised application is approved by OMB. The current applications are due to expire at various times in the future and will be withdrawn once the new information collection request is approved and the new system is operational.

Type of Review: Renewal.

Agency: Corporation for National and Community Service.

Title: Grants and Member Management System.

OMB Number: TBD.

Agency Number: None.

Affected Public: Applicants for funding.

Total Respondents: 13,200.

Frequency: Depending on the availability of appropriations.

Average Time per Response: Six hours.

Estimated Total Burden Hours: 79,200.

Total Burden Cost (capital/startup): None.

Total Burden Cost (operating/maintenance): None.

Dated: July 13, 2017.
Marlene Zakai,
Director of Strategic Initiatives.

[FR Doc. 2017-15228 Filed 7-19-17; 8:45 am]

BILLING CODE 6050-28-P